DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the removal of a person currently on OFAC's Specially Designated Nationals and Blocked Persons List (SDN List) based on OFAC's determination that one or more applicable legal criteria were satisfied. All property and interests in property subject to U.S. jurisdiction of this person is unblocked, and U.S. persons are permitted to engage in lawful transactions with them. OFAC is also publishing updates to the identifying information of three persons currently included on the SDN List.

DATES: This action was issued on October 30, 2024. See Supplementary Information for relevant dates.

FOR FURTHER INFORMATION CONTACT: OFAC: Associate Director for Global Targeting, 202-622-2420; or https://ofac.treasury.gov/contact-ofac.

SUPPLEMENTARY INFORMATION:

Electronic Availability

The SDN List and additional information concerning OFAC sanctions programs are available on OFAC's website: https://ofac.treasury.gov.

Notice of OFAC Action

On October 30, 2024, OFAC removed from the SDN List the person listed below, whose property and interests in property were blocked pursuant to E.O. 14024. This person is no longer subject to the blocking provisions of E.O. 14024.

Individual

1. LENG, Holger, Tallinn, Estonia; Switzerland; DOB 12 Jun 1969; nationality Estonia; alt. nationality Switzerland; Gender Male; Secondary sanctions risk: See Section 11 of Executive Order 14024. (individual) [RUSSIA-EO14024] (Linked To: MILUR SA).

Designated pursuant to section 1(a)(iii)(C) of E.O. 14024 for being or having been a leader, official, senior executive officer, or member of the board of directors of Milur SA, an entity whose property and interests in property are blocked pursuant to E.O. 14024.

On October 30, 2024, OFAC updated the entry on the SDN List for the following persons, whose property and interests in property subject to U.S. jurisdiction continue to be blocked under the relevant sanctions authority listed below.

BILLING CODE 4810-AL-P

Lisa M. Palluconi,
Acting Director, Office of Foreign Assets Control.

[FR Doc. 2024-26667 Filed 11-14-24; 8:45 am]

BILLING CODE 4810-AL-C